DEPARTMENT OF THE INTERIOR

National Park Service

General Management Plan/Environmental Assessment, Saugus Iron Works National Historic Site, Essex County, MA

AGENCY: National Park Service, Interior.

ACTION: Notice of availability of General Management Plan/Environmental Assessment and Finding of No Significant Impact.

SUMMARY: Pursuant to Council on Environmental Quality regulations and National Park Service Policy, this notice announces the pubication of the General Management Plan/Environmental Assessment for Saugus Iron Works National Historic Site, Essex County, Massachusetts. In accordance with the National Environmental Policy Act 102(2)(C) of 1969, the environmental assessment was prepared to assess the impacts of implementing the general management plan, and as a result of that analysis, a Finding Of No Significant Impact has been issued.

The General Management Plan/Environmental Assessment identifies the Preferred Alternative and assesses the potential environmental, cultural and socioeconomic effects of the actions presented on site resources, visitor experience, and the surrounding area. The Preferred Alternative involves (a) rehabilitating the interior of the museum building to allow for compliance with NPS museum exhibit standards and consolidating the museum collections and archival materials in existing residences that would be adaptively reused to house these resources under appropriate climate controlled and protective systems, (b) removing existing maintenance facilities, restoring their current locations and consolidating them into a single facility, (c) adaptively reusing the Iron Works House Annex and Lean-to into a visitor contact facility, and d) improving access through the iron works structures and between those structures and the Iron Works House and Museum for persons with disabilities and special needs.

DATES: The General Management Plan/Environmental Assessment and FONSI are now available.

SUPPLEMENTARY INFORMATION: Copies of the document are available at the following locations: Saugus Iron Works National Historic Site-Visitor Kiosk, 244 Central Street, Saugus, MA 01906. The visitor kiosk is open everyday from 9 a.m. to 5 p.m. The Saugus Public Library, 295 Central Street Saugus, MA. The library is open Monday through Thursday from 8:30 a.m. to 8:30 p.m.; Friday hours are 8:30 am until noon. The library is closed on weekends.

To request a copy of the document, please call (781) 233-0050, fax (781-231-7345), or write Superintendent, Saugus Iron Works National Historic Site 244 Central Street, Saugus, MA 01906.

Bob McIntosh,
Associate Regional Director, Planning, Resources Stewardship and Science, Northeast Region.

[FR Doc. 02-12564 Filed 5-17-02; 8:45 am]

BILLING CODE 4310-70-P